DEPARTMENT OF LABOR

Mine Safety and Health Administration

Petitions for Modification

The following parties have filed petitions to modify the application of existing safety standards under section 101(c) of the Federal Mine Safety and Health Act of 1977.

1. W.A. Mining, Inc.

[Docket No. M-2004-050-C]

True Line, Inc., P.O. Box 85, Thorpe, West Virginia 24888 has filed a petition for W. A. Mining, Inc., to modify the application of 30 CFR 77.214(a) (Draw-off tunnels; stockpiling and reclaiming operations; general) to its Caretta Mine No. 2 (MSHA I.D. No. 46-08240) located in McDowell County, West Virginia. The petitioner proposes to remove an old abandoned refuse pile near the mine site and backfill the mine bench with the refuse material in accordance with Surface Mining Coal Reclamation Act (SMCRA) regulations. The petitioner asserts that the proposed alternative method would provide at least the same measure of protection as the existing standard.

2. Kingwood Mining Company, LLC

[Docket No. M-2004-051-C]

Kingwood Mining Company, LLC, Route 1, Box 294C, Newburg, West Virginia 26410 has filed a petition to modify the application of 30 CFR 75.364(b)(2) (Weekly examination) to its Whitetail K-Mine (MSHA I.D. No. 46-08751) located in Preston County, West Virginia. The petitioner proposes to: (i) examine the airway of the return air course in its entirety up to both sides of the area in question (16XC and 20XC) due to deteriorating roof conditions, the affected area cannot be traveled in its entirety; and (ii) provide date boards at both ends of the affected area and have a certified person examine the area on a weekly basis to measure for quantity and quality of air outby (downwind) location (16XC) and record results of the measurements in a book and made available to interested parties. The petitioner asserts that the proposed alternative method would provide at least the same measure of protection as the existing standard.

Request for Comments

Persons interested in these petitions are encouraged to submit comments via Federal eRulemaking Portal: http://www.regulations.gov; E-mail: Comments@MSHA.gov; Fax: (202) 693-9441; or Regular Mail/Hand Delivery/Courier: Mine Safety and Health Administration, Office of Standards, Regulations, and Variances, 1100 Wilson Boulevard, Room 2350, Arlington, Virginia 22209. All comments must be postmarked or received in that office on or before January 24, 2005. Copies of these petitions are available for inspection at that address.

Dated at Arlington, Virginia this 16th day of December 2004.
Marvin W. Nichols, Jr.,
Director, Office of Standards, Regulations, and Variances.

[FR Doc. 04-28082 Filed 12-22-04; 8:45 am]

BILLING CODE 4510-43-P